Memorandum of April 14, 2020

Delegation of Authorities Under the National Defense Authorization Act for Fiscal Year 2020 and the Eastern Mediterranean Security and Energy Partnership Act of 2019

Memorandum for the Secretary of State

By the authority vested in me as President by the Constitution and the laws of the United States of America, including section 301 of title 3, United States Code, I hereby delegate to the Secretary of State the authorities vested in the President by section 1250A(d) of the National Defense Authorization Act for Fiscal Year 2020 (Public Law 116-92) and section 205(d) of the Eastern Mediterranean Security and Energy Partnership Act of 2019 (Title II, Div. J, Public Law 116-94).

Any reference in this memorandum to either Act shall be deemed to be a reference to such Acts as amended from time to time.

You are authorized and directed to publish this memorandum in the Federal Register.

THE WHITE HOUSE,

Washington, April 14, 2020

[FR Doc. 2020-12859

Filed 6-11-20; 8:45 am]

Billing code 4710-10-P